DEPARTMENT OF DEFENSE

Department of the Navy

[Docket ID: USN-2013-0027]

Proposed Collection; Comment Request

AGENCY: Department of the Navy, DoD.

ACTION: Notice.

In compliance with Section 3506(c)(2)(A) of the Paperwork Reduction Act of 1995, the Department of the Navy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 9, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Judge Advocate General, ATTN: Special Assistant for Strategic Planning (SASP). 1322 Patterson Ave SE., Suite 3000, Washington Navy Yard, DC 20374-5066, or call SASP at 202-685-5185.

Title; Associated Form; and OMB Number: JAGC Application Survey; OMB Control Number 0703-0059.

Needs and Uses: The U.S. Navy Judge Advocate General requires a method to improve recruiting and accession board processes to recruit and select the best individuals as judge advocates. A survey will allow the JAG Corps to assess whether certain traits and/or behaviors are indicators of future success in the JAG Corps. If the survey results reveal statistically significant personal indicators of success, then those factors can provide a reliable basis for focusing recruiting efforts and making more efficient selection decisions.

Affected Public: Individuals applying for a commission as an officer in the United States Navy Judge Advocate General's Corps.

Annual Burden Hours: 600.

Number of Respondents: approximately 800.

Responses per Respondent: 1.

Average Burden per Response: 45 minutes.

Frequency: Survey will be available to individuals who submit an application throughout the year.

SUPPLEMENTARY INFORMATION:

Summary of Information Collection

This online applicant survey will help analyze Navy JAG Corps applicants and focus future recruiting efforts. A Navy JAG Corps application consists of personal academic history (e.g., grade point average and Law School Admissions Test (LSAT) scores), as well as objective assessments of traits and values through a structured interview score. This survey gathers information about an applicant's personality traits and tendencies, but the results are not part of the application. After selection of candidates for commission, an individual's survey results will be combined with that individual's application data and with measures of performance by that officer over time. Collectively, this information will provide a more thorough picture of an individual officer. Through this longitudinal study, the Navy JAG Corps will determine if any particular personal activities, academic performance, or personality traits (or combination of factors) constitute statistically significant indicators of success as Navy JAG Corps officers. If so, then recruiting efforts and selection criteria can be modified to find efficiencies and reduce costs.

Dated: July 1, 2013.
Aaron Siegel,
Alternate OSD Federal Register Liaison Officer, Department of Defense.

[FR Doc. 2013-16405 Filed 7-8-13; 8:45 am]

BILLING CODE 5001-06-P